DEPARTMENT OF DEFENSE

Department of the Army, Corps of Engineers

Intent To Prepare a Draft Environmental Impact Statement (DEIS) for Improvements to the Corpus Christi Ship Channel Near Corpus Christi, Texas as Published in House Document 99, 90th Congress, Second Session

AGENCY: U.S. Army Corps of Engineers, DoD.

ACTION: Notice of intent.

SUMMARY: The proposed action to be addressed in the Draft EIS is to evaluate several deepening and widening alternatives to improve a deep-draft navigation channel that connects harbor facilities in the Corpus Christi area with the Gulf of Mexico. The study will focus on circulation and salinity changes associated with an improved channel and develop dredged material disposal options that will include an evaluation of beneficial uses of dredged material. The project is being maintained at its authorized depth of 45 feet and includes about 34.5 nautical miles of deep-draft channel. The Corpus Christi area is located about 200 miles southwest of Houston, Texas. The local sponsor for the project is the Port of Corpus Christi Authority.

FOR FURTHER INFORMATION CONTACT: Questions about the proposed action and DEIS can be answered by: Mr. Carl Anderson, (409) 766-3914, Project Manager, Project Management Branch, or Dr. Terry Roberts, (409) 766-3035, Environmental Lead, Environmental Branch, Planning, Environmental, and Regulatory Division, P.O. Box 1229, Galveston, Texas 77553-1229.

SUPPLEMENTARY INFORMATION: 1. The study process began in 1990 when Congress directed the Secretary of the Army to study the feasibility of modifying the 45-foot channel to accommodate larger vessels, increase shipping efficiency, and enhance navigation safety. A reconnaissance study evaluated a deepening and widening plan to establish a Federal interest in the project. The study concluded there was a Federal interest in continuing studies in 1994. The feasibility study began in June 1999 and will determine the most cost-effective alternative for improving the channel while protecting the Nation's environment.

2. Alternatives: a. The six construction alternatives that will be evaluated in the feasibility phase are:

(1) Widening the existing 400-foot channel across Corpus Christi Bay between Ingleside and the Harbor Bridge.

(2) Add barge lanes across Corpus Christi Bay.

(3) Extend the La Quinta Channel approximately 8,000 feet.

(4) Deepen the channel to 52 feet from the Gulf of Mexico to the Viola Turning Basin and widen it across Corpus Christi Bay between Ingleside and the Harbor Bridge.

(5) Deepen the channel to 50 feet from the Gulf of Mexico to the Viola Turning Basin and widen it across Corpus Christi Bay between Ingleside and the Harbor Bridge.

(6) Deepen the La Quinta Channel to 50 feet.

b. A “No Action” alternative will be evaluated and presented for comparison purposes in evaluating the various construction alternatives.

3. Scoping: The scoping process will involve Federal, State, and local agencies, and other interested persons and organizations. A series of scoping workshops will be conducted to discuss various issues associated with the channel improvements and placement of dredged material. Separate Scoping Notices will be issued for the various workshops. Issues to be considered in this process include beneficial uses of dredged material, changes in salinity and circulation, water and sediment quality, erosion along the channel, and threatened and endangered species impacts. Any person or organization wishing to provide information on issues or concerns should contact the Corps of Engineers at the above address.

4. Coordination: Further coordination with environmental agencies will be conducted under the Fish and Wildlife Coordination Act, Endangered Species Act, Clean Water Act, National Historic Preservation Act, Magnuson-Stevens Fishery Conservation and Management Act (Essential Fish Habitat), and the Coastal Zone Management Act (Texas Coastal Management Program). A Regulatory Agency Coordination Team has been formed to provide guidance and counsel on matters relating to the evaluation of environmental impacts of this project. The Team is composed of representatives from three Federal and six State regulatory agencies, the local sponsor, and the U.S. Army Corps of Engineers.

5. DEIS Preparation: It is estimated that the DEIS will be available to the public for review and comment in March 2002.

Gregory D. Showalter,
Army Federal Register Liaison Officer.

[FR Doc. 00-19799 Filed 8-3-00; 8:45 am]

BILLING CODE 3710-GK-P